DEPARTMENT OF ENERGY

Notice of Intent To Commence Administrative Law Judge Hearings for Regulatory Enforcement Cases

AGENCY: Office of the General Counsel, Department of Energy.

ACTION: Notice of intent (NOI).

SUMMARY: The U.S. Department of Energy (DOE) is issuing this NOI to notify interested parties of DOE's intent to immediately commence on-the-record hearings before Administrative Law Judges (ALJs) in civil penalty cases for violations of DOE's conservation standards and certification requirements. This NOI also provides the web address for the procedures that will govern these hearings.

DATES: This notice of intent is effective on September 30, 2022.

ADDRESSES: Interested person are encouraged to review these procedures at www.energy.gov/gc/doe-procedures-administrative-adjudication-civil-penalty-actions.

FOR FURTHER INFORMATION CONTACT: Requests for information or clarification may be sent to: doegc32@hq.doe.gov. Questions about the NOI may be addressed to Lucy Lee at (202) 287-6395.

SUPPLEMENTARY INFORMATION:

I. Authority and Purpose

Title III of the Energy Policy and Conservation Act, as amended (EPCA),¹ sets forth a variety of provisions designed to improve energy efficiency. Part A of Title III (42 U.S.C. 6291-6309) provides for the Energy Conservation Program for Consumer Products Other Than Automobiles. The National Energy Conservation Policy Act, Public Law 95-619, amended EPCA to add Part A-1 of Title III, which established an energy conservation program for certain industrial equipment. (42 U.S.C. 6311-6317) Sections 6298-6305 and 6316 of EPCA authorize DOE to enforce compliance with the energy and water conservation standards established for covered products and covered equipment. To ensure that all covered products and equipment distributed in the United States comply with DOE's energy and water conservation standards and certification requirements, DOE promulgated enforcement regulations in 10 CFR parts 429, 430, and 431 and assesses civil penalties for violations of these regulations. Section 6303(d) of EPCA provides an opportunity for an on-the-record hearing for parties issued a civil penalty notice for violations of DOE's conservation standards and certification requirements.

¹ All references to EPCA in this document refer to the statute as amended through the Energy Act of 2020, Public Law 116-260 (Dec. 27, 2020), which reflect the last statutory amendments that impact Parts A and A-1 of EPCA.

In this NOI, DOE gives notice of its intent to commence on-the-record hearings before ALJs in civil penalty cases pursuant to its authority in 42 U.S.C. 6303(d)(2)(A). For more information on DOE's enforcement process, including how to request an ALJ hearing, please see 10 CFR part 429, subpart C.

II. Procedures for Administrative Adjudication of Civil Penalty Actions

The procedures applicable to DOE's administrative adjudication of civil penalty actions can be found at: www.energy.gov/gc/doe-procedures-administrative-adjudication-civil-penalty-actions.

Signing Authority

This document of the Department of Energy was signed on September 26, 2022, by Samuel Walsh, General Counsel, pursuant to delegated authority from the Secretary of Energy. That document with the original signature and date is maintained by DOE. For administrative purposes only, and in compliance with requirements of the Office of the Federal Register, the undersigned DOE Federal Register Liaison Officer has been authorized to sign and submit the document in electronic format for publication as an official document of the Department of Energy. This administrative process in no way alters the legal effect of this document upon publication in the Federal Register.

Signed in Washington, DC, on September 26, 2022.
Treena V. Garrett,
Federal Register Liaison Officer, U.S. Department of Energy.

[FR Doc. 2022-21208 Filed 9-29-22; 8:45 am]

BILLING CODE 6450-01-P